DEPARTMENT OF THE INTERIOR

Bureau of Reclamation

Draft Environmental Impact Statement/Environmental Impact Report (EIS/EIR) and Notice of Scoping Meeting for the San Joaquin River Exchange Contractors Water Authority's 25-Year Water Transfer Program 2014 to 2038, California

AGENCY: Bureau of Reclamation, Interior.

ACTION: Notice of intent and scoping meeting.

SUMMARY: The Department of the Interior, Bureau of Reclamation (Reclamation) and the San Joaquin River Exchange Contractors Water Authority (Exchange Contractors) propose to prepare a joint EIS/EIR for a twenty-five year water transfer program (Program). The action would be to execute agreements for water transfers among Reclamation, Mid-Pacific Region; Central Valley Project (CVP) and State Water Project (SWP) contractors; and the Exchange Contractors for water service years 2014 to 2038. The Program would consist of the annual development and transfer of up to 150,000 acre-feet of substitute water (maximum of 100,000 acre-feet of conserved water and a maximum of 50,000 acre-feet from land fallowing) from the Exchange Contractors to other CVP contractors, to Reclamation's Refuge Water Supply Program (RWSP) for delivery to the San Joaquin Valley wetland habitat areas (wildlife refuges), and/or State Water Project (SWP) contractors.

DATES: Written comments on the scope of the EIS/EIR should be mailed to Mr. Brad Hubbard at the address below by August 10, 2011.

A public scoping meeting will be held on July 13, 5-7 p.m., in Los Banos, California.

ADDRESSES: Written comments on the scope of the EIS should be sent to Mr. Brad Hubbard, Bureau of Reclamation, 2800 Cottage Way, MP-410, Sacramento, California, 95825, or via e-mail to bhubbard@usbr.gov.

The public scoping meeting will be held at the Miller-Lux Building, Floor 1, 830 Sixth Street, Los Banos, California.

FOR FURTHER INFORMATION CONTACT: Mr. Brad Hubbard, Project Manager, Bureau of Reclamation at the above address, via e-mail at BHubbard@usbr.gov or at 916-978-5204, or Ms. Joann White, San Joaquin River Exchange Contractors Water Authority, via e-mail at jwhite@sjrecwa.net at 209-827-8616.

SUPPLEMENTARY INFORMATION: The Program's objective is the Exchange Contractor's annual transfer of Central Valley Project (CVP) water to:

• Other CVP contractors and SWP contractors to meet demands of agriculture, municipal, and industrial uses, and/or

• The RWSP for delivery to the San Joaquin Valley Federal, State and private wildlife refuges.

The proposed Program would assist Reclamation in optimizing the use of limited existing water resources for agriculture, fish and wildlife resources, and municipal and industrial purposes. The Exchange Contractors propose to annually transfer CVP water for the production of agricultural crops or livestock and/or municipal and industrial uses because of water supply shortages or when full contract deliveries cannot otherwise be made. The RWSP needs additional water to provide the refuges with the increment between Level 2 (approximately 422 thousand acre-feet (TAF) of CVP yield—the amount of water historically used by refuges prior to 1992), and Level 4 (approximately 555 TAF—the amount of water required for optimum wetland habitat development) quantities. This increment is known as “Incremental Level 4” and is water the RWSP acquires from willing sellers. The Program's annual water transfers would occur largely within the San Joaquin Valley of central California. The Exchange Contractors' service area covers parts of Fresno, Madera, Merced, and Stanislaus counties. The agricultural water users that would benefit from the potential transfers are located in the counties of Stanislaus, San Joaquin, Merced, Madera, Fresno, San Benito, Santa Clara, Tulare, Kern, Kings, Contra Costa, Alameda, Monterey, and Santa Cruz. The wetland habitat areas that may receive the water are located in Merced, Fresno, Kings, Tulare, and Kern counties.

Some of the resources potentially affected by transfers under the proposed Program include: surface water including the San Joaquin River, groundwater, biological resources, land uses including Indian Trust Assets (if any), air quality/climate change, socioeconomics including impacts to agricultural production, and environmental justice.

Special Assistance for Public Meetings

If special assistance is required to participate in the scoping meeting, please contact Ms. Joann White at 209-827-8616 or via e-mail at jwhite@sjrecwa.net. A telephone device for the hearing impaired (TDD) is available at 916-989-7285.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: June 3, 2011.
Anastasia T. Leigh,
Acting Regional Environmental Officer, Mid-Pacific Region.

[FR Doc. 2011-16838 Filed 7-5-11; 8:45 am]

BILLING CODE 4310-MN-P